DEPARTMENT OF ENERGY

Notice of Availability of Solicitation

AGENCY: Albuquerque Operations Office, Department of Energy.

ACTION: Notice of availability of solicitation-research and development of the Nevada Solar Dish Power Project.

SUMMARY: The U.S. Department of Energy (DOE), Albuquerque Operations Office (AL), is seeking applications for research and development for a new project to deploy solar dish-engine systems at a site in southern Nevada. The Project, entitled The Nevada Solar Dish Power Project, is sponsored by the DOE's Concentrating Solar Power (CSP) Program to provide a “bridge” from R&D to commercialization of solar dish technology. Therefore, it is aimed at deploying systems that have established operational credentials not at performing R&D on system designs. The two project objectives are (1) to fabricate and field 1 megawatt or more of solar dish-engine systems in a power plant environment, and (2) to develop a project development, installation, and O&M database for dish-engine systems. We expect the installation and testing of the systems to start in late 2002 or early 2003 and to continue through 2004-2005. Since this is a pre-commercial deployment, we plan for dish-engine power plant to continue to operate in a sustainable manner following the completion of the project. We anticipate the authorization project funding in FY2002 and subsequent years, subject to Congressional appropriations. The financial assistance award(s) will be made on a competitive basis, utilizing an objective merit review process, and may consist of multiple cooperative agreements. A written proposal that includes technical and cost volumes will be solicited. A DOE technical panel will perform a scientific and engineering evaluation of each responsive application to determine the merit of the approach. DOE anticipates issuing one or more financial assistance instruments from this solicitation. Funding in the amount of $500,000 is anticipated to be available. Cost sharing by the applicant is desired.

DATES: Applications are to be received no later than 3 p.m. local prevailing time on August 1, 2002. Any application received after the due date will not be evaluated.

FOR FURTHER INFORMATION CONTACT: Martha L. Youngblood, Contracting Officer, DOE/AL, at (505) 845-4268 or by e-mail at MYOUNGBLOOD@DOEAL.GOV

SUPPLEMENTARY INFORMATION: The solicitation will be available on the Internet on or about July 1, 2002 at the following web site: http://e-center.doe.gov/. Applications must be prepared and submitted in accordance with the instructions and forms contained in the solicitation. For profit and not-for-profit organizations, state and local governments, Indian tribes, and institutions of higher learning are eligible for awards under this solicitation. Collaboration between industry, industry organizations, and universities are encouraged.

Issued in Albuquerque, New Mexico June 21, 2002.
Martha L. Youngblood,
Contracting Officer, Complex Support Branch, Contracts and Procurement Division.

[FR Doc. 02-16945 Filed 7-5-02; 8:45 am]

BILLING CODE 6450-01-P